DEPARTMENT OF DEFENSE

Department of the Air Force

[Docket ID: USAF-2008-0040]

Privacy Act of 1974; System of Records

AGENCY: Department of the Air Force, DoD.

ACTION: Notice to add a system of records.

SUMMARY: The Department of the Air Force is proposing to add a system of records to its inventory of record systems subject to the Privacy Act of 1974 (5 U.S.C. 552a), as amended.

DATES: The changes will be effective on January 5, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted on November 18, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 25, 2008.
Morgan E. Frazier,
Alternate OSD Federal Register Liaison Officer, Department of Defense.

F024 AF AFMC A

System name:

Cargo Movement Operations System Records.

System location:

Defense Enterprise Computing Center Montgomery, Bldg 857, Room 200, 401 East Moore Drive, Maxwell AFB-Gunter Annex 36114-3004.

Categories of individuals covered by the system:

Any individual (military or civilian) who is a passenger on a military or civilian contracted aircraft or any Cargo Movement Operations System user.

Categories of records in the system:

Include but not limited to travel order, transportation authorizations, individual's name and Social Security Number (SSN), grade, seats required; origin; destination; requested travel dates, routing indicator (identifies the activity/installation requesting the reservation); cancellation and standby codes (identifies the reason the passenger did not depart as scheduled); flight number; departure date and reporting time, and other administrative coding.

Authority for maintenance of the system:

10 U.S.C. 8013, Secretary of the Air Force; DoD Regulation 4500.9E, Transportation and Traffic Management; Air Force Program Management Directive #5272(2)/38610F, Cargo Movement Operations System; and E.O. 9397 (SSN).

Purpose(s):

To establish a system that will provides the capability to effectively plan, document, and manage outbound and inbound cargo and to plan, schedule, and monitor the execution of transportation activities in support of deployment and reception of forces. The system will accumulate and aggregate shipment data, track the completion of transportation actions, prepare and print movement documentation, prepare and transmit advance shipment notification to all involved activities, and prepare and transmit system reports. As a management tool, the records will determine passenger movement trends and prepare aircraft manifests.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To other Federal agencies and offices to provide passenger manifest information.

To Global Air Transportation Execution System and Global Transportation Network to use the data for the purpose to manifest passengers on military and government civilian contracted aircrafts.

The DoD “Blanket Routine Uses” published at the beginning of the Air Force's compilation of systems of records notices apply to this system.

Policies and practices for storing, retrieving, accessing, retaining, and disposing of records in the system:

Storage:

Electronic storage media.

Retrievability:

Individual's name and Social Security Number (SSN).

Safeguards:

Records are accessed by person(s) responsible for servicing the record system in performance of their official duties and by authorized personnel who are properly screened and cleared for need-to-know. Records are stored in locked rooms and cabinets. Those in computer storage devices are protected by computer system software.

Retention and disposal:

Transportation authorizations and orders are retained in office files for five years after the annual cutoff, and then destroyed. Other records in the system are retained in office files until superseded, obsolete, no longer needed for reference, or on inactivation, and then destroyed. These records are destroyed by one of the following means tearing into pieces, shredding, pulping, macerating, burning, or degaussing in the case of magnetic computer media.

System manager(s) and address:

Director, 754th Electronic Systems Group, Headquarters, Air Force Material Command, 200 East Moore Drive, Maxwell AFB Gunter Annex, AL 36114-3014.

Notification procedure:

Individuals seeking to determine whether this system of records contains information on themselves should address inquiries to 754th Electronic Systems Group, Headquarters, Air Force Material Command, 200 East Moore Drive, Maxwell AFB Gunter Annex, AL 36114-3014.

Written requests should contain individual's name, Social Security Number (SSN), reservation identification code, and movement channel.

Record access procedures:

Individuals seeking to access records about themselves contained in this system should address requests to the 754th Electronic Systems Group, Headquarters, Air Force Material Command, 200 East Moore Drive, Maxwell AFB Gunter Annex, AL 36114-3014.

Written requests should contain individual's name, Social Security Number (SSN), reservation identification code, and movement channel.

Contesting record procedures:

The Air Force rules for accessing records, and for contesting contents and appealing initial agency determinations are published in Air Force Instruction 37-132; 32 CFR parts 806b; or may be obtained from the system manager.

Record source categories:

Individuals, military transportation and personnel activities, or other agencies designated to arrange air passenger reservations.

Exemptions claimed for the system:

None.

[FR Doc. E8-28754 Filed 12-3-08; 8:45 am]

BILLING CODE 5001-06-P